DEPARTMENT OF AGRICULTURE

Forest Service

[File Code: 1350-2]

Notice of Resource Advisory Committee, Sundance, WY, USDA Forest Service

ACTION: Notice of meeting.

SUMMARY: Pursuant to the authorities in the Federal Advisory Committee Act (Pub. L. 92-463) and under the Secure Rural Schools and Community Self-Determination Act of 2000 (Pub. L. 106-393) the Black Hills National Forests' Crook County Resource Advisory Committee will meet Monday, April 10th, 2006 in Sundance, Wyoming for a business meeting. The meeting is open to the public.

SUPPLEMENTARY INFORMATION: The business meeting on April 10th will begin at 6:30 p.m. at the USFS Bearlodge Ranger District office, 121 South 21st Street, Sundance, Wyoming. Agenda topics will include a brief message from Forest Supervisor, Craig Bobzien and discussion and determination on project proposals not yet acted upon. A public forum will begin at 8 p.m. (MT).

FOR FURTHER INFORMATION CONTACT: Steve Kozel, Bearlodge District Ranger and Designated Federal Officer at (307) 283-1361.

Dated: March 24, 2006.
Steven J. Kozel,
District Ranger, Bearlodge Ranger District.

[FR Doc. 06-3079 Filed 3-29-06; 8:45 am]

BILLING CODE 3410-11-M